SMALL BUSINESS ADMINISTRATION

[Declaration of Disaster #3341]

State of Minnesota; Amendment #7

In accordance with a notice received from the Federal Emergency Management Agency, dated July 3, 2001, the above-numbered Declaration is hereby amended to close the incident period for this disaster effective July 3, 2001.

All other information remains the same, i.e., the deadline for filing applications for physical damage is July 31, 2001 and for economic injury the deadline is February 15, 2002.

(Catalog of Federal Domestic Assistance Program Nos. 59002 and 59008.)

Dated: July 12, 2001.
Herbert L. Mitchell,
Associate Administrator for Disaster Assistance.

[FR Doc. 01-17896 Filed 7-17-01; 8:45 am]

BILLING CODE 8025-01-P